DEPARTMENT OF THE INTERIOR

National Park Service

Submission of U.S. Nominations to the World Heritage List

AGENCY: Department of the Interior, National Park Service.

ACTION: Notice of Decision To Submit Nominations to the World Heritage List.

SUMMARY: This notice constitutes the official publication of the decision to submit nominations to the World Heritage List for Papahanaumokuakea Marine National Monument, Hawaii, and Mount Vernon, Virginia, and serves as the Third Notice referred to in Sec. 73.7(j) of the World Heritage Program regulations (36 CFR part 73).

The nominations are being submitted through the Department of State for consideration by the World Heritage Committee, which will likely occur at the Committee's 34th annual session in mid-2010.

These two properties have been selected from the U.S. World Heritage Tentative List. The Tentative List consists of properties that appear to qualify for World Heritage status and which may be considered for nomination by the United States to the World Heritage List. The current U.S. Tentative List was transmitted to the UNESCO World Heritage Centre on January 24, 2008.

The new U.S. Tentative List appeared in a Federal Register notice on March 19, 2008 (73 FR 14835-14838, March 19, 2008) with a request for public comment on possible initial nominations from the 14 sites on the U.S. Tentative List, particularly for the two sites named above.

The comments received and the Department of the Interior's responses to them as well as the Department's decision to request preparation of these two nominations appeared in a subsequent Federal Register Notice published on July 8, 2008 (73 FR 39036-39039, July 8, 2008). The Department considered public comments received during the comment period as well as the advice of the Federal Interagency Panel for World Heritage in making the decisions to submit the two U.S. World Heritage nominations. Both properties meet the legal prerequisites for nomination by the United States to the World Heritage List. They appear to meet one or more of the World Heritage criteria and all owners of the two sites support the nomination of these nationally significant properties to the World Heritage List.

Papahanaumokuakea Marine National Monument was selected for nomination in part because it would, as a marine site and a mixed cultural and natural site in the Pacific, fill conspicuous gaps in the U.S. portfolio of World Heritage Sites. Similar gaps likewise exist in the World Heritage List as a whole, wherein few marine, Pacific, or mixed sites are listed. The State of Hawaii, the U.S. Fish and Wildlife Service and the National Oceanic and Atmospheric Administration, the three co-stewards of the Monument, are strongly supportive of the nomination.

George Washington's Mount Vernon likewise would fill a gap in the U.S. cultural site list and on the World Heritage List as a whole. It is an outstanding example of a type of colonial cultural landscape that was tied to the plantation economy based on slavery that prevailed in the American South during the colonial and early Federal periods. It is also the primary illustration of the early historic preservation movement in the United States. The Mount Vernon Ladies Association, the owner, strongly supports the property's nomination.

DATES: The World Heritage Committee will likely consider the nominations at its 34th annual session in mid-2010.

FOR FURTHER INFORMATION CONTACT: Stephen Morris, 202-354-1803 or Jonathan Putnam, 202-354-1809. For summary information on the U.S. Tentative List and how it was developed, please see the March 19, 2008, Federal Register notice (73 FR 14835-14838, March 19, 2008). Complete information about U.S. participation in the World Heritage Program and the process used to develop the Tentative List is posted on the Office of International Affairs Web site at: http://www.nps.gov/oia/topics/worldheritage/tentativelist.htm.

To request paper copies of documents discussed in this notice, please contact April Brooks, Office of International Affairs, National Park Service, 1201 Eye Street, NW., (0050) Washington, DC 20005. E-mail: April_Brooks@nps.gov.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. In 2005, the United States was elected to a fourth term on the World Heritage Committee and will serve until 2009. The Committee, composed of representatives of 21 nations elected as the governing body of the World Heritage Convention, makes the final decisions on which nominations to accept on the World Heritage List at its annual meeting each summer.

There are 878 sites in 145 of the 185 signatory countries. Currently there are 20 World Heritage Sites in the United States already listed.

U.S. participation and the roles of the Department of the Interior and the National Park Service are authorized by Title IV of the Historic Preservation Act Amendments of 1980 and conducted in accordance with 36 CFR 73—World Heritage Convention. The Department of the Interior has the lead role for the U.S. Government in the implementation of the Convention; the National Park Service serves as the principal technical agency within the Department for World Heritage matters and manages all or parts of 17 of the 20 U.S. World Heritage Sites currently listed.

A Tentative List is a national list of natural and cultural properties appearing to meet the World Heritage Committee's eligibility criteria for nomination to the World Heritage List. It is a list of candidate sites which a country intends to consider for nomination within a given time period. A country cannot nominate a property unless it has been on its Tentative List for a minimum of a year. Countries also are limited to nominating no more than two sites in any given year.

The World Heritage Committee's Operational Guidelines ask participating nations to provide Tentative Lists, which aid in evaluating properties for the World Heritage List on a comparative international basis and help the Committee to schedule its work over the long term. The Guidelines recommend that a nation review its Tentative List at least once every decade.

Neither inclusion in the Tentative List nor inscription as a World Heritage Site imposes legal restrictions on owners or neighbors of sites, nor does it give the United Nations any management authority or ownership rights in U.S. World Heritage Sites, which continue to be subject only to U.S. and local laws. Inclusion in the Tentative List merely indicates that the property may be further examined for possible World Heritage nomination in the future.

U.S. World Heritage Nominations: 2009

Papahanaumokuakea Marine National Monument, Hawaii

This 1,200-mile-long string of islands, atolls, coral reefs and adjacent waters, running northwest from the main Hawaiian islands and encompassing over 89 million acres, is one of the world's largest and most significant marine protected areas. Scattered in the deep ocean are some 10 small islands along with extensive reefs and shoals. In this remote and still relatively pristine part of the Pacific, marine life flourishes, and the area is home to a large number of species found nowhere else in the world, including a wide array that are threatened and endangered. Large populations of seabirds nest on isolated sandy shores and the waters harbor impressive numbers of large predatory fish. The geology of the islands is also highly significant—the chain represents the longest, clearest, and oldest example of island formation and atoll evolution in the world.

Native Hawaiians reached these islands at least 1,000 years before any other people and established settlements on some of them. The islands, along with their significant archeological sites, retain great cultural and spiritual significance to Native Hawaiians.

Mount Vernon, Virginia

George Washington's long-time home, with its associated gardens and grounds, forms a remarkably well-preserved and extensively documented example of a plantation landscape of the 18th-century American South. It was based on English models but modified and adapted to its American context, which included slave labor as an economic basis. There is a core of 14 surviving 18th-century structures set in a landscape of gardens, fences, lanes, walkways, and other features, situated along the Potomac River, that changed and developed over many years in Washington's family. The Mount Vernon Ladies' Association has owned and maintained the property for 150 years.

Authority: 16 U.S.C. 470a-1, a-2, d; 36 CFR 73.

Dated: January 16, 2009.
Lyle Laverty,
Assistant Secretary for Fish and Wildlife and Parks.

[FR Doc. E9-2044 Filed 1-29-09; 8:45 am]

BILLING CODE 4312-52-P